DEPARTMENT OF TRANSPORTATION

Federal Aviation Administration

14 CFR Part 39

[Docket No. FAA-2007-27213 Directorate Identifier 2007-CE-012-AD; Amendment 39-15055; AD 2007-10-14]

RIN 2120-AA64

Airworthiness Directives; British Aerospace Regional Aircraft Model HP.137 Jetstream Mk.1, Jetstream Series 200, Jetstream Series 3101, and Jetstream Model 3201 Airplanes

AGENCY: Federal Aviation Administration (FAA), Department of Transportation (DOT).

ACTION: Final rule.

SUMMARY: We are superseding an existing airworthiness directive (AD) for the products listed above. This AD results from mandatory continuing airworthiness information (MCAI) issued by an aviation authority of another country to identify and correct an unsafe condition on an aviation product. The MCAI describes the unsafe condition as:

Cracking has been found in the nose landing gear steering jack piston rod adjacent to the eye-end. This was caused by the application of excessive tightening torque applied to the eye-end whilst being assembled during component overhaul. Failure of the steering jack piston during operation will result in loss of nose wheel steering, which may lead to loss of directional control during critical phases of take-off and landing.

We are issuing this AD to require actions to correct the unsafe condition on these products.

DATES: This AD becomes effective June 26, 2007.

On June 26, 2007, the Director of the Federal Register approved the incorporation by reference of APPH Ltd. Service Bulletin 32-76, Revision 1, dated August 2003, as referenced in BAE Systems British Aerospace Jetstream Series 3100 & 3200 Service Bulletin 32-JA030644, Original Issue: October 6, 2003, listed in this AD.

As of May 22, 2003 (68 FR 16195, April 3, 2003), the Director of the Federal Register approved the incorporation by reference of APPH Ltd. Service Bulletin 32-76, pages 1, 2, and 4 through 7, dated October 2002; and page 3, Erratum 1, dated November 2002, as referenced in BAE Systems British Aerospace Jetstream Mandatory Service Bulletin 32-JA020741, Original Issue: November 2, 2002, listed in this AD.

ADDRESSES: You may examine the AD docket on the Internet at http://dms.dot.gov or in person at the Docket Management Facility, U.S. Department of Transportation, 400 Seventh Street, SW., Nassif Building, Room PL-401, Washington, DC.

FOR FURTHER INFORMATION CONTACT: Taylor Martin, Aerospace Engineer, FAA, Small Airplane Directorate, 901 Locust, Room 301, Kansas City, Missouri 64106; telephone: (816) 329-4138; fax: (816) 329-4090.

SUPPLEMENTARY INFORMATION:

Streamlined Issuance of AD

The FAA is implementing a new process for streamlining the issuance of ADs related to MCAI. The streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

We issued a notice of proposed rulemaking (NPRM) to amend 14 CFR part 39 to include an AD that would apply to the specified products. That NPRM was published in the Federal Register on March 15, 2007 (72 FR 12133) and proposed to supersede AD 2003-07-06, Amendment 39-13102 (68 FR 16195, April 3, 2003). The NPRM proposed to correct an unsafe condition for the specified products. The MCAI states:

Cracking has been found in the nose landing gear steering jack piston rod adjacent to the eye-end. This was caused by the application of excessive tightening torque applied to the eye-end whilst being assembled during component overhaul. Failure of the steering jack piston during operation will result in loss of nose wheel steering, which may lead to loss of directional control during critical phases of take-off and landing.

The inspections and any required rectification actions detailed in BAe Systems Service Bulletin 32-JA030644 and associated APPH Service Bulletin 32-76 Revision 1 are required to be performed to ensure continued airworthiness of the aircraft.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

We estimate that this AD will affect 190 products of U.S. registry. We also estimate that it will take about 2 work-hours per product to comply with basic requirements of this AD. The average labor rate is $80 per work-hour. Based on these figures, we estimate the cost of this AD to the U.S. operators to be $30,400, or $160 per product.

In addition, we estimate that any necessary follow-on actions will take about 8 work-hours and require parts costing $5,300, for a cost of $5,940 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://dms.dot.gov; or in person at the Docket Management Facility between 9 a.m. and 5 p.m., Monday through Friday, except Federal holidays. The AD docket contains the NPRM, the regulatory evaluation, any comments received, and other information. The street address for the Docket Office (telephone (800) 647-5227) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing AD 2003-07-06, Amendment 39-13102 (68 FR 16195, April 3, 2003) and adding the following new AD:

2007-10-14 British Aerospace Regional Aircraft: Amendment 39-15055; Docket No. FAA-2007-27213; Directorate Identifier 2007-CE-012-AD.

Effective Date

(a) This airworthiness directive (AD) becomes effective June 26, 2007.

Affected ADs

(b) Supersedes AD 2003-07-06, Amendment 39-13102.

Applicability

(c) This AD applies to Model HP.137 Jetstream Mk.1, Jetstream Series 200, Jetstream Series 3101, and Jetstream Model 3201 airplanes, all serial numbers, certificated in any category.

Subject

(d) Air Transport Association of America (ATA) Code 32: Landing Gear.

Reason

(e) The mandatory continuing airworthiness information (MCAI) states:

Cracking has been found in the nose landing gear steering jack piston rod adjacent to the eye-end. This was caused by the application of excessive tightening torque applied to the eye-end whilst being assembled during component overhaul. Failure of the steering jack piston during operation will result in loss of nose wheel steering, which may lead to loss of directional control during critical phases of take-off and landing.

The inspections and any required rectification actions detailed in BAe Systems Service Bulletin 32-JA030644 and associated APPH Service Bulletin 32-76 Revision 1 are required to be performed to ensure continued airworthiness of the aircraft.

Retained Requirements of AD 2003-07-06

(f) Unless already done, do the following actions in accordance with the procedures in APPH Ltd. Service Bulletin 32-76 (pages 1, 2, and 4 through 7, dated October 2002; and page 3, Erratum 1, dated November 2002), as referenced in BAE Systems British Aerospace Jetstream Mandatory Service Bulletin 32-JA020741, Original Issue: November 2, 2002; or APPH Ltd. Service Bulletin 32-76, Revision 1, dated August 2003, as referenced in BAE Systems British Aerospace Jetstream Series 3100 & 3200 Service Bulletin 32-JA030644, dated October 6, 2003.

(1) Inspect the steering jack piston rod for cracks within the next 90 days or 200 ground-air-ground (GAG) cycles after May 22, 2003 (the effective date of AD 2003-07-06), whichever occurs first.

(2) If cracks are found, replace the cracked steering jack piston rod. Install the new steering jack piston rod using a torque setting of 175 lbf (pound force) inch or 20 Nm (Newton meters) when tightening the end fitting and stop bolt before further flight after the inspection required in paragraph (f)(1) of this AD.

(3) If no cracks are found, determine the torque setting of the steering jack piston rod end fitting and stop bolt before further flight after the inspection required in paragraph (f)(1) of this AD.

New Requirements of This AD: Actions and Compliance

(g) Unless already done, do the following actions:

(1) Within 90 days after June 26, 2007 (the effective date of this AD), recalculate the safe life of the steering jack piston rod and re-torque the piston rod eye-end in accordance with APPH Ltd. Service Bulletin 32-76, Revision 1, dated August 2003, as referenced in paragraph 2, Part 2 of BAE Systems British Aerospace Jetstream Series 3100 & 3200 Service Bulletin 32-JA030644, dated October 6, 2003.

(2) If the piston rod is found unserviceable when inspected in accordance with APPH Ltd. Service Bulletin 32-76, Revision 1, dated August 2003, as referenced in paragraph 2, Part 2 of BAE Systems British Aerospace Jetstream Series 3100 & 3200 Service Bulletin 32-JA030644, dated October 6, 2003, before further flight remove the steering jack and replace with a serviceable unit.

(3) As of June 26, 2007 (the effective date of this AD), before a steering jack piston rod is installed, it must be inspected and the safe life determined in accordance APPH Ltd. Service Bulletin 32-76, Revision 1, dated August 2003, as referenced in paragraph 2 of BAE Systems British Aerospace Jetstream Series 3100 & 3200 Service Bulletin 32-JA030644, dated October 6, 2003.

FAA AD Differences

Note: This AD differs from the MCAI and/or service information as follows: No differences.

Other FAA AD Provisions

(h) The following provisions also apply to this AD:

(1) Alternative Methods of Compliance (AMOCs): The Manager, Standards Staff, FAA, has the authority to approve AMOCs for this AD, if requested using the procedures found in 14 CFR 39.19. Send information to ATTN: Taylor Martin, Aerospace Engineer, FAA, Small Airplane Directorate, 901 Locust, Room 301, Kansas City, Missouri 64106; telephone: (816) 329-4138; fax: (816) 329-4090. Before using any approved AMOC on any airplane to which the AMOC applies, notify your appropriate principal inspector (PI) in the FAA Flight Standards District Office (FSDO), or lacking a PI, your local FSDO.

(2) AMOCs approved for AD 2003-07-06 are not approved for this AD.

(3) Airworthy Product: For any requirement in this AD to obtain corrective actions from a manufacturer or other source, use these actions if they are FAA-approved. Corrective actions are considered FAA-approved if they are approved by the State of Design Authority (or their delegated agent). You are required to assure the product is airworthy before it is returned to service.

(4) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI Civil Aviation Authority AD No. G-2004-0029, dated December 20, 2004; BAE Systems British Aerospace Jetstream Series 3100 & 3200 Service Bulletin 32-JA030644, dated October 6, 2003; BAE Systems British Aerospace Jetstream Mandatory Service Bulletin 32-JA020741, Original Issue: November 2, 2002; APPH Ltd. Service Bulletin 32-76, Revision 1, dated August 2003; and APPH Ltd. Service Bulletin 32-76, pages 1, 2, and 4 through 7, dated October 2002; and page 3, Erratum 1, dated November 2002, for related information.

Material Incorporated by Reference

(j) You must use APPH Ltd. Service Bulletin 32-76, Revision 1, dated August 2003; as referenced in BAE Systems British Aerospace Jetstream Series 3100 & 3200 Service Bulletin 32-JA030644, dated October 6, 2003; and APPH Ltd. Service Bulletin 32-76, pages 1, 2, and 4 through 7, dated October 2002; and page 3, Erratum 1, dated November 2002; as referenced in BAE Systems British Aerospace Jetstream Mandatory Service Bulletin 32-JA020741, Original Issue: November 2, 2002; to do the actions required by this AD, unless the AD specifies otherwise.

(1) The Director of the Federal Register approved the incorporation by reference of APPH Ltd. Service Bulletin 32-76, Revision 1, dated August 2003; as referenced in BAE Systems British Aerospace Jetstream Series 3100 & 3200 Service Bulletin 32-JA030644, dated October 6, 2003, under 5 U.S.C. 552(a) and 1 CFR part 51.

(2) On May 22, 2003 (68 FR 16195, April 3, 2003), the Director of the Federal Register approved the incorporation by reference of APPH Ltd. Service Bulletin 32-76, pages 1, 2, and 4 through 7, dated October 2002; and page 3, Erratum 1, dated November 2002, as referenced in BAE Systems British Aerospace Jetstream Mandatory Service Bulletin 32-JA020741, Original Issue: November 2, 2002.

(3) For service information identified in this AD, contact BAE Systems, Prestwick International Airport, Ayshire, KA9 2RW, Scotland; telephone: (01292) 675207; fax: (01292) 675704.

(4) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on May 9, 2007.
Charles L. Smalley,
Acting Manager, Small Airplane Directorate, Aircraft Certification Service.

[FR Doc. 07-2522 Filed 5-21-07; 8:45 am]

BILLING CODE 4910-13-P